DEPARTMENT OF AGRICULTURE

Food and Nutrition Service

Agency Information Collection Activities: Proposed Collection; Comment Request—Supplemental Nutrition Assistance Program—Disaster Supplemental Nutrition Assistance Program (D-SNAP)

AGENCY: Food and Nutrition Service, USDA.

ACTION: Notice.

SUMMARY: In accordance with the Paperwork Reduction Act of 1995, this notice invites the general public and other public agencies to comment on the proposed information collection. This is a revision of a currently approved collection associated with requests by State agencies to operate a Disaster Supplemental Nutrition Assistance Program (D-SNAP) to temporarily provide food assistance to households following a disaster.

DATES: Written comments must be received on or before October 29, 2018.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Comments may be sent to Sasha Gersten-Paal, Chief, Certification Policy Branch, Program Development Division, Food and Nutrition Service, U.S. Department of Agriculture, 3101 Park Center Drive, Room 812, Alexandria, VA 22302. Comments may also be faxed to the attention of Ms. Gersten-Paal at (703) 305-2507 or via email to Sasha.Gersten-Paal@fns.usda.gov.

Comments will also be accepted through the Federal eRulemaking Portal. Go to http://www.regulations.gov and follow the online instructions for submitting comments electronically.

All written comments will be open for public inspection at the office of the FNS during regular business hours (8:30 a.m. to 5:00 p.m., Monday through Friday) at 3101 Park Center Drive, Room 800, Alexandria, Virginia 22302.

All responses to this notice will be summarized and included in the request for OMB approval. All comments will be a matter of public record.

FOR FURTHER INFORMATION CONTACT: Requests for additional information should be directed to Ms. Gersten-Paal at (703) 305-2507.

SUPPLEMENTARY INFORMATION:

Title: Disaster Supplemental Nutrition Assistance Program (D-SNAP).

OMB Number: 0584-0336.

Expiration Date: 1/31/2019.

Type of Request: Revision of a previously approved collection.

Abstract: Pursuant to § 412 of the Robert T. Stafford Disaster Relief and Emergency Assistance Act, 42 U.S.C. 5179, and § 5(h)(1) the Food and Nutrition Act of 2008, 7 U.S.C. 2014(h), the Secretary of Agriculture has the authority to establish a Disaster Supplemental Nutrition Assistance Program (D-SNAP), which is a temporary program State agencies may operate to provide food assistance to households affected by disasters. D-SNAP is separate and distinct from the Supplemental Nutrition Assistance Program (SNAP) because it has different standards of eligibility, is operated for a limited duration, and only provides one month's worth of benefits to eligible households.

State agencies must submit formal requests to operate D-SNAP to the Food and Nutrition Service (FNS) for approval, and may only request to operate D-SNAP in areas that have received a Presidential Disaster Declaration with authorization for Individual Assistance, also known as an IA declaration, from the Federal Emergency Management Agency (FEMA). In their D-SNAP requests, State agencies must outline their proposed procedures for conducting D-SNAP, designate the areas where they wish to operate, and provide sufficient supporting information. FNS reviews all D-SNAP requests and supporting information to ensure that all necessary requirements to operate D-SNAP are met. The information collected under this notice is required for State agencies to obtain FNS approval to operate D-SNAP.

The burden associated with the certification of D-SNAP applicants by State agencies is included under currently approved OMB information collection 0584-0064 (SNAP Forms: Applications, Periodic Reporting, Notices; expiration date: 07/31/2020), and the burden associated with the submission of form FNS-292B: Report of Disaster Supplemental Nutrition Assistance Benefit Issuance by State agencies is covered under the currently approved OMB information collection 0584-0037 (Report of D-SNAP Benefit Issuance and Commodity Distribution for Disaster Relief; expiration date: 02/28/2021). Neither of these burden activities will be reflected in this submission.

Because it is impossible to predict the number of natural disasters and extreme weather events that result in an IA declaration in a given year, and because some State agencies may find that operation of a D-SNAP is not warranted even upon receipt of an IA declaration, FNS is revising this burden estimate based on the annual average number of formal D-SNAP requests that were submitted and approved since this collection was last approved. From fiscal year 2015 to 2017, and average of 5 State agencies requested and were approved to operate D-SNAP each year.

Once approved by FNS to operate D-SNAP, State agencies must submit any subsequent request to modify or expand operations to newly eligible areas to FNS for approval. These modification or expansion requests are typically reserved for when a large-scale disaster impacts different areas of a State in different ways or at different times. While these subsequent modification and expansion requests require substantially less time to prepare than initial D-SNAP requests, FNS is revising this burden estimate to account for these is slight increase in total annual burden.

Summary of burden hours:

Affected Public: State agencies and local governments.

Estimated Total Annual Number of Respondents: The total estimated number of respondents is 7. This includes: An average of 5 State agencies that submit D-SNAP requests, and 2 State agencies that submit subsequent requests to modify or expand approved D-SNAPs.

Estimated Frequency of Responses per Respondent: State agencies usually submit 1 D-SNAP request per year, and may occasionally submit 1 subsequent modification or expansion request.

Estimated Total Annual Responses: 7.

Estimated Total Hours per Response: Approximately 10 hours for State agency D-SNAP requests, and approximately 3 hours for each subsequent modification or expansion request.

Estimated Total Annual Burden on Respondents: 56.

Respondent | Estimated number of respondents | Responses annually per respondent | Total annual responses | Estimated average number of hours per response | Estimated total hours (col. dxe)
State Agency—Submission of D-SNAP Request | 5 | 1 | 5 | 10 | 50
State Agency—Submission of D-SNAP modification or expansion request | 2 | 1 | 2 | 3 | 6
Total reporting burden | 7 |  | 7 |  | 56

Dated: August 21, 2018.
Brandon Lipps,
Administrator, Food and Nutrition Service.

[FR Doc. 2018-18787 Filed 8-29-18; 8:45 am]

BILLING CODE 3410-30-P